DEPARTMENT OF COMMERCE

International Trade Administration

(A-580-861)

Certain Circular Welded Carbon Quality Steel Line Pipe from the Republic of Korea: Termination of Antidumping Duty Investigation

AGENCY: Import Administration, International Trade Administration, Department of Commerce.

EFFECTIVE DATE: December 1, 2008.

FOR FURTHER INFORMATION CONTACT: Patrick Edwards or Dena Crossland, Office 7, AD/CVD Operations, Import Administration, International Trade Administration, U.S. Department of Commerce, 14th Street and Constitution Avenue, NW, Washington, DC 20230; telephone: (202) 482-8029 or (202) 482-3362, respectively.

SUPPLEMENTARY INFORMATION:

Background

On April 3, 2008, the Department of Commerce (Department) received antidumping duty petitions filed in proper form by the petitioners for the imposition of antidumping duties on certain circular welded carbon quality steel line pipe (line pipe) from the Republic of Korea (Korea) and the People's Republic of China (PRC), alleging that line pipe from these countries were being sold, or were likely to be sold, in the United States at less than fair value. The petitioners are United States Steel Corporation, Maverick Tube Corporation, Tex-Tube Company, and the United Steel, Paper and Forestry, Rubber, Manufacturing, Energy, Allied Industrial and Service Workers International Union, and AFL-CIO-CLC (collectively, Petitioners). On April 23, 2008, the Department initiated antidumping duty investigations of line pipe from Korea and the PRC. See Certain Circular Welded Carbon Quality Steel Line Pipe From the Republic of Korea and the People's Republic of China: Initiation of Antidumping Duty Investigations, 73 FR 23188 (April 29, 2008) (Initiation Notice).

On June 3, 2008, the International Trade Commission preliminarily determined that there is a reasonable indication that an industry in the United States is materially injured or threatened with material injury by reason of imports of line pipe from Korea and the PRC. See Certain Circular Welded Carbon Quality Steel Line Pipe from China and Korea, 73 FR 31712 (June 3, 2008).

On November 6, 2008, we published in the Federal Register the preliminary determination in the Korean investigation, concurrently postponing the final determination until no later than March 21, 2009. See Preliminary Determination of Sales at Less Than Fair Value and Postponement of the Final Determination: Certain Circular Welded Carbon Quality Steel Line Pipe from the Republic of Korea, 73 FR 66020 (November 6, 2008).

Scope of Investigation

The merchandise that is the subject of this investigation is circular welded carbon quality steel pipe of a kind used for oil and gas pipelines (welded line pipe), not more than 406.4 mm (16 inches) in outside diameter, regardless of wall thickness, length, surface finish, end finish or stenciling.

The term “carbon quality steel” includes both carbon steel and carbon steel mixed with small amounts of alloying elements that may exceed the individual weight limits for nonalloy steels imposed in the Harmonized Tariff Schedule of the United States (HTSUS). Specifically, the term “carbon quality” includes products in which (1) iron predominates by weight over each of the other contained elements, (2) the carbon content is 2 percent or less by weight and (3) none of the elements listed below exceeds the quantity by weight respectively indicated:

(i) 2.00 percent of manganese,

(ii) 2.25 percent of silicon,

(iii) 1.00 percent of copper,

(iv) 0.50 percent of aluminum,

(v) 1.25 percent of chromium,

(vi) 0.30 percent of cobalt,

(vii) 0.40 percent of lead,

(viii) 1.25 percent of nickel,

(ix) 0.30 percent of tungsten,

(x) 0.012 percent of boron,

(xi) 0.50 percent of molybdenum,

(xii) 0.15 percent of niobium,

(xiii) 0.41 percent of titanium,

(xiv) 0.15 percent of vanadium, or

(xv) 0.15 percent of zirconium.

Welded line pipe is normally produced to specifications published by the American Petroleum Institute (API) (or comparable foreign specifications) including API A-25, 5LA, 5LB, and X grades from 42 and above, and/or any other proprietary grades or non-graded material. Nevertheless, all pipe meeting the physical description set forth above that is of a kind used in oil and gas pipelines, including all multiple-stenciled pipe with an API line pipe stencil is covered by the scope of this investigation.

The line pipe products that are the subject of this investigation are currently classifiable in the HTSUS under subheadings 7306.19.10.10, 7306.19.10.50, 7306.19.51.10, and 7306.19.51.50. While HTSUS subheadings are provided for convenience and customs purposes, the written description of the scope of this investigation is dispositive.

Termination of Antidumping Duty Investigation

On November 17, 2008, the Department received a letter from Petitioners notifying the Department that they are no longer interested in seeking relief and are withdrawing their petition on line pipe from Korea. Under section 734(a)(1)(A) of the Tariff Act of 1930, as amended (the Act), upon withdrawal of a petition, the administering authority may terminate an investigation after giving notice to all parties to the investigation. Further, 19 CFR 351.207(b)(1) states that the Department may terminate an investigation upon withdrawal of a petition, provided it concludes that termination is in the public interest. On November 18, 2008, we notified all interested parties to the investigation of our intent to terminate this investigation, and provided them an opportunity to comment on the proposed termination. See Memorandum to the File from Dena Crossland, Case Analyst, through Angelica L. Mendoza, Program Manager, Office 7, dated November 21, 2008. We received no comments from any party to this investigation.

As no party objects to this termination and the Department is not aware of any evidence to the contrary, the Department finds that termination of this investigation is in the public interest. As such, we are terminating this antidumping duty investigation and will issue instructions directly to U.S. Customs and Border Protection (CBP) to terminate the suspension of liquidation of subject merchandise and release all bonds and any cash deposits that have been posted, where applicable.

Notification Regarding Administrative Protective Orders

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This determination and notice are published in accordance with section 734(a) of the Act and 19 CFR 351.207(b).

Dated: November 21, 2008.
David M. Spooner,
Assistant Secretary for Import Administration.

[FR Doc. E8-28469 Filed 11-28-08; 8:45 am]

BILLING CODE 3510-DS-S